DEPARTMENT OF COMMERCE

National Oceanic and Atmospheric Administration

[RTID 0648-XV199]

Request for Information on the NOAA Space Weather Scales (SWS)

AGENCY: National Weather Service (NWS), National Oceanic and Atmospheric Administration (NOAA).

ACTION: Notice; request for information.

SUMMARY: The Space Weather Prediction Center (SWPC) within NOAA NWS seeks information from interested parties regarding a possible revision to the Space Weather Scales (SWS), which are issued to communicate to the public current and future space weather conditions and possible effects on people and systems.

DATES: Submit written comments on or before July 31, 2024.

ADDRESSES: The public may submit written comments on issues addressed in this notification by either of the following methods:

Electronic Submission: Submit all electronic public comments via the Federal e-Rulemaking Portal. Visit https://www.regulations.gov and type “NOAA-NWS-2024-0069” in the Search box. Click on the “Comment” icon, complete the required fields, and enter or attach your comments.

Mail: Submit written comments to Amy Macpherson, NOAA, 7220 NW 101st Terrace, Kansas City, MO 64153.

Instructions: Comments must be submitted by one of the above methods to ensure that the comments are received, documented, and considered by the Department of Commerce. Comments sent by any other method, to any other address or individual, or received after the end of the comment period, may not be considered. All comments received are a part of the public record and may be posted for public viewing without change. All personal identifying information (e.g., name, address) submitted voluntarily by the sender will be publicly accessible. Do not submit confidential business information, or otherwise sensitive or protected information. The Department will accept anonymous comments.

FOR FURTHER INFORMATION CONTACT: Amy Macpherson, NOAA, 7220 NW 101st Terrace, Kansas City, MO 64153, amy.macpherson@noaa.gov, or 816-287-1344

SUPPLEMENTARY INFORMATION: NOAA introduced the SWS in 1999 to communicate to the public current and future space weather conditions and possible effects on people and systems. However, space weather capabilities, user base, and user needs have grown and changed dramatically over the last two decades, and the SWS are challenged in supporting the growing stakeholder needs. In December 2023, the White House Office of Science and Technology Policy's National Science and Technology Council published the Implementation Plan for the National Space Weather Strategy and Action Plan. One of the actions directed the agencies to “Update and expand, as appropriate, the NOAA space weather scales. NOAA scales should be updated and expanded with a focus on forecasting impacts and specifying how space weather will differentially affect systems, industries, sectors, or regions.”

NOAA is undertaking a revision to the SWS and through this request for information (RFI) is soliciting public input to gather feedback from a wide range of stakeholders, including representatives from industry, academia, other relevant organizations and institutions, and the general public. The public input provided in response to this RFI will inform NOAA in the scales revision process. Current NOAA Space Weather Scale descriptions can be found at: https://www.swpc.noaa.gov/noaa-scales-explanation

Discussion Points to Inform the SWS Revision

NOAA seeks input into revising the space weather scales with discussion on the following points, to the extent feasible:

1. Articulate what NOAA's space weather scales are used and describe how are they used in missions and inform sector operations. If there are other uses of the scales, please describe.

2. Please discuss the benefits of using the NOAA's space weather scales and how they are useful. Include scenarios and situations of how the space weather scales are useful for operators or how they are useful in decision-making.

3. Describe challenges or difficulties in using the space weather scales. Please include information regarding the content, context, and information provided by the scales.

4. Provide suggested changes to the space weather scales including articulating what aspects could be improved. Consider how the space weather scales are communicated and provide suggestions for how scales communication could be improved. In addition, discuss the impact to your mission if the scales were to change.

5. Offer ideas for developing a new space weather scale(s). Include what phenomenon should be captured by a potential new scale(s), discuss how thresholds for a potential new scale(s) would be determined, and provide some scenarios on how a new scale(s) would be used by the community.

Please note that this is an RFI only. In accordance with the implementing regulations of the Paperwork Reduction Act of 1995 (PRA), specifically 5 CFR 1320.3(h)(4), this general solicitation is exempt from the PRA. Facts or opinions submitted in response to general solicitations of comments from the public, published in the Federal Register or other publications, regardless of the form or format thereof, provided that no person is required to supply specific information pertaining to the commenter, other than that necessary for self-identification, as a condition of the agency's full consideration, are not generally considered information collections and therefore not subject to the PRA.

Dated: May 21, 2024.
Michael Farrar,
Director, National Centers for Environmental Prediction, National Weather Service.

[FR Doc. 2024-11565 Filed 5-24-24; 8:45 am]

BILLING CODE 3510-KE-P